DEPARTMENT OF ENERGY

Federal Energy Regulatory Commission

Combined Notice of Filings #1

Take notice that the Commission received the following exempt wholesale generator filings:

Docket Numbers: EG17-56-000.

Applicants: Flat Top Wind I, LLC.

Description: Notice of Self-Certification of EWG Status of Flat Top Wind I, LLC.

Filed Date: 2/2/17.

Accession Number: 20170202-5069.

Comments Due: 5 p.m. ET 2/23/17.

Take notice that the Commission received the following electric rate filings:

Docket Numbers: ER10-2498-003.

Applicants: South Carolina Electric & Gas Company.

Description: Notice of Non-Material Change in Status of South Carolina Electric & Gas Company.

Filed Date: 1/31/17.

Accession Number: 20170131-5464.

Comments Due: 5 p.m. ET 2/21/17.

Docket Numbers: ER14-199-002.

Applicants: Lakewood Cogeneration, L.P.

Description: Compliance Filing: Reactive Power Settlement Compliance Filing (February 1, 2017) to be effective 1/27/2017.

Filed Date: 2/1/17.

Accession Number: 20170201-5105.

Comments Due: 5 p.m. ET 2/22/17.

Docket Numbers: ER14-714-002.

Applicants: Essential Power Rock Springs, LLC.

Description: Compliance Filing: Reactive Power Settlement Compliance Filing (February 1, 2017) to be effective 1/27/2017.

Filed Date: 2/1/17.

Accession Number: 20170201-5093.

Comments Due: 5 p.m. ET 2/22/17.

Docket Numbers: ER14-715-002.

Applicants: Essential Power OPP, LLC.

Description: Compliance Filing: Reactive Power Settlement Compliance Filing (February 1, 2017) to be effective 1/27/2017.

Filed Date: 2/1/17.

Accession Number: 20170201-5100.

Comments Due: 5 p.m. ET 2/22/17.

Docket Numbers: ER17-915-000.

Applicants: PJM Interconnection, L.L.C.

Description: Tariff Cancellation: Notice of Cancellation of WMPA SA No. 3772, Queue No. Y2-088 to be effective 1/20/2017.

Filed Date: 2/1/17.

Accession Number: 20170201-5227.

Comments Due: 5 p.m. ET 2/22/17.

Docket Numbers: ER17-916-000.

Applicants: PJM Interconnection, L.L.C.

Description: § 205(d) Rate Filing: Amendment to WMPA, SA No. 4418, Queue No. AA2-123 to update contact info. to be effective 2/17/2016.

Filed Date: 2/1/17.

Accession Number: 20170201-5262.

Comments Due: 5 p.m. ET 2/22/17.

Take notice that the Commission received the following electric securities filings:

Docket Numbers: ES17-12-000.

Applicants: Xcel Energy Southwest Transmission Company, LLC.

Description: Application under Section 204 of the Federal Power Act of Xcel Energy Southwest Transmission Company, LLC.

Filed Date: 1/31/17.

Accession Number: 20170131-5466.

Comments Due: 5 p.m. ET 2/21/17.

Docket Numbers: ES17-13-000.

Applicants: Xcel Energy Transmission Development Company, LLC.

Description: Application under Section 204 of the Federal Power Act of Xcel Energy Transmission Development Company, LLC.

Filed Date: 1/31/17.

Accession Number: 20170131-5469.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2017.
Nathaniel J. Davis, Sr.,
Deputy Secretary.

[FR Doc. 2017-02532 Filed 2-7-17; 8:45 am]

BILLING CODE 6717-01-P